DEPARTMENT OF ENERGY

Federal Energy Regulatory Commission

[Docket No. OA97-237-013]

New England Power Pool; Notice of Filing

April 14, 2003.

Take notice that on April 7, 2003, the New England Power Pool (NEPOOL) Participants Committee (NPC) and ISO New England Inc. (ISO-NE) jointly filed for acceptance revisions to a report of an audit previously filed Docket No. OA97-237-012 on April 24, 2002. NPC and ISO-NE state that the audit report is submitted in compliance with the requirement of a settlement agreement approved by the Commission by Order dated July 30, 1999, 88 FERC •161,140, that an audit of the charges for regional network service (RNS) under the formula rate provisions of the NEPOOL Tariff for charges in effect for the NEPOOL rate years June 1, 1997, through May 31, 2000, be performed by or under the direction of ISO-NE, and that the results of the audit be submitted to the Commission as an informational filing. NPC and ISO-NE indicate that the revised report reflects the outcome of efforts to resolve certain disputes regarding the initial audit report.

The NPC states that copies of these materials were sent to the New England state governors and regulatory commissions, the NEPOOL Participants, the parties to the settlement agreement and the intervenors as identified in this subdocket.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: May 7, 2003.

Magalie R. Salas,
Secretary.

[FR Doc. 03-9812 Filed 4-21-03; 8:45 am]

BILLING CODE 6717-01-P